DEPARTMENT OF THE INTERIOR

Bureau of Indian Affairs

Submission of Information Collection to Office of Management and Budget

AGENCY: Bureau of Indian Affairs, Interior.

ACTION: Notice.

SUMMARY: In compliance with the Paperwork Reduction Act of 1995, the Bureau of Indian Affairs (BIA) is submitting this information collection request to the Office of Management and Budget (OMB) for review and renewal. The collection is: 25 CFR 151 Land Acquisitions, OMB Control Number 1076-0100.

DATES: Comments must be received on or before March 30, 2007, to be assured of consideration.

ADDRESSES: Comments should be sent to the Desk Officer for the Department of the Interior at the Office of Management and Budget. You may submit comments either by telefacsimile at (202) 395-6566, or by e-mail to OIRA_DOCKET@omb.eop.gov.

Please send a copy to Ben Burshia, Bureau of Indian Affairs, Division of Real Estate Services, Mail Stop 4639-MIB, 1849 C Street NW., Washington, DC 20240-0001.

FOR FURTHER INFORMATION CONTACT: Interested persons may obtain copies of the information collection requests without charge by contacting Ben Burshia at (202) 219-1195.

SUPPLEMENTARY INFORMATION: The Paperwork Reduction Act of 1995 provides an opportunity for interested parties to comment on proposed information collection requests. This collection covers 25 CFR 151 as presently approved. The Bureau of Indian Affairs, Division of Real Estate Services, is proceeding with this public comment period as the next step in obtaining a normal information collection clearance from OMB. The request contains (1) Type of review, (2) title, (3) summary of the collection, (4) respondents, (5) frequency of collection, (6) reporting and record keeping requirements, and (7) reason for response.

A Federal Register notice was published on December 13, 2006 (71 FR 74932). No comments were received.

25 CFR 151—Land Acquisitions

OMB Control Number: 1076-0100.

Type of review: Extension of a currently approved collection.

Title: Acquisition of Title to Land in Trust, 25 CFR 151.

Summary: The Secretary of the Interior has statutory authority to acquire lands in trust status for individual Indians and federally recognized Indian tribes. The Secretary requests information in order to identify the parties involved and a description of the land in question. Respondents are Native American tribes or individuals who request acquisition of real property into trust status. The Secretary also requests additional information necessary to satisfy those pertinent factors listed in 25 CFR 151.10 or 151.11. The information is used to determine whether or not the Secretary will approve an applicant's request. No specific form is used, but respondents supply information and data, in accordance with 25 CFR 151, so that the Secretary may make an evaluation and determination in accordance with established Federal factors, rules and policies.

Frequency of Collection: One Time.

Description of Respondents: Native American tribes and individuals desiring acquisition of lands in trust status.

Total Respondents: 1,000.

Total Annual Responses: 1,000.

Total Annual Burden Hours: 67,800 hours.

Reason for Response: Required to obtain or retain benefits.

The Bureau of Indian Affairs solicits comments in order to:

(1) Evaluate whether the proposed collection of information is necessary for the proper performance of the functions of the bureau, including whether the information will have practical utility;

(2) Evaluate the bureau's estimate of the burden of the proposed collection of information, including the validity of the methodology and assumptions used;

(3) Enhance the quality, utility, and clarity of the information to be collected; and

(4) Minimize the burden of the collection of information on those who are to respond. Any public comments will be addressed in the Bureau of Indian Affairs' submission of the information collection request to the Office of Management and Budget.

We will not sponsor nor conduct a request for information, and you need not respond to such a request, unless there is a valid OMB Control Number.

Please note that comments are open to public review. If you wish to have your name and address withheld from the reviewing public, you must state so prominently at the beginning of your comments. We will honor your request to the limit of the appropriate laws. All comments from businesses or their representatives will be available for public review. We may decide to withhold information for other reasons.

The Office of Management and Budget has between 30 and 60 days to make a decision about this information collection request; therefore, comments received closer to 30 days have a better chance of being considered.

Dated: February 22, 2007.
Grayford Payne,
Acting Principal Deputy Assistant Secretary—Indian Affairs.

[FR Doc. E7-3496 Filed 2-27-07; 8:45 am]

BILLING CODE 4310-W7-P